DEPARTMENT OF ENERGY

10 CFR Parts 602, 710, 712, 725, 820, 824, 835, 850, 851, 852, 861, 862, 871, 1004, 1008, 1016, 1017, 1021, 1044, 1045, 1046, and 1049

RIN 1901-AB22

Technical Amendments: Transfer of Office Functions and Removal of Obsolete Regulations

AGENCY: Department of Energy (DOE).

ACTION: Final rule; technical amendment.

SUMMARY: DOE has created a new Office of Health, Safety and Security to strengthen and improve formulation and implementation of health, safety and security policy. Incident to creation of the new office, DOE has transferred certain health, safety and security functions to the new office that previously were carried out by the Office of Environment, Safety and Health and the Office of Security and Safety Performance Assurance. Certain functions related to DOE's responsibilities under the National Environmental Policy Act have been transferred to the Office of the General Counsel. Other functions outside of the core mission of health, safety and security have been transferred to other DOE offices performing similar or related functions. This notice of final rulemaking makes technical amendments to DOE's regulations to substitute the officials to whom or offices to which functions have been transferred pursuant to the reorganization of offices and functions. DOE also is removing Office of Environment, Safety and Health regulations in 10 CFR part 852 because Congress has transferred that authority to the Department of Labor. Today's regulatory amendments do not alter substantive rights or obligations under current law.

DATES: Effective Date: This rule is effective on November 28, 2006.

FOR FURTHER INFORMATION CONTACT: Stephen Duarte, Office of the General Counsel, GC-71, 1000 Independence Avenue, SW., Washington, DC 20585; steve.duarte@hq.doe.gov; 202-586-2951.

SUPPLEMENTARY INFORMATION:

I. Introduction

DOE has created a new office to strengthen and improve the health, safety, and security of DOE workers, facilities and the public. The new office, called the Office of Health, Safety and Security (HSS), will help formulate and implement health, safety, environmental, and security policy for DOE, provide assistance to DOE sites, conduct oversight through rigorous field inspections, and carry out enforcement activities previously carried out by the Offices of Environment, Safety and Health (EH) and Security and Safety Performance Assurance (SSA). HSS is led by a Chief Health, Safety and Security Officer who reports directly to the Secretary of Energy.

The HSS office has nine offices dedicated to health, safety and security, which include the Office of Health and Safety; Office of Nuclear Safety and Environment; Office of Corporate Safety Analysis; Office of Enforcement; Office of Independent Oversight; Office of Security Policy; Office of Security Technology and Assistance; Office of Classification; and the National Training Center. In addition, HSS now includes the Office of the Departmental Representative to the Defense Nuclear Facilities Safety Board and the Office of Security Operations.

Functions that were performed by EH or SSA but which are outside the core mission of health, safety and security have been transferred to other DOE program offices performing similar or related functions. The DOE Office of National Environmental Policy Act (NEPA) Policy and Compliance has been transferred to the Office of the General Counsel. DOE's continuity of government program and support for technical review of authorization basis documents, previously performed by SSA, has been transferred to DOE's National Nuclear Security Administration (NNSA). Support of safety regulations for newly constructed facilities and new start projects are now the responsibility of the Office of the Under Secretary for Energy, and for new NNSA facilities, the Office of the Under Secretary for Nuclear Security. Management of the Radiological Environment Science Laboratory has been transferred to the Office of Nuclear Energy and the management of the New Brunswick Laboratory has been transferred to the Office of Science to better align those activities with their current programmatic functions. The Office of Management will assume non-safety related quality assurance program elements and the management of DOE's foreign travel and exchange visitor program.

Certain of the functions that were transferred to HSS and the NEPA functions that were transferred to the Office of the General Counsel are subject to regulations in title 10 of the Code of Federal Regulations. As a result of the transfers, title 10 of the Code of Federal Regulations contains references to DOE program offices and positions that are no longer extant. Today's final rule amends title 10 of the Code of Federal Regulations to reflect DOE's new organizational structure and to update addresses that are no longer correct. In addition, DOE takes this opportunity to remove regulations in 10 CFR part 852 made obsolete by the repeal of the statute that authorized those regulations. None of the regulatory amendments in this notice of final rulemaking alter substantive rights or obligations under current law.

This final rule has been approved by the Office of the Secretary of Energy.

II. Procedural Requirements

A. Review Under Executive Order 12866

Today's regulatory action has been determined not to be “a significant regulatory action” under Executive Order 12866, “Regulatory Planning and Review,” 58 FR 51735 (October 4, 1993). Accordingly, this action was not subject to review under that Executive Order by the Office of Information and Regulatory Affairs of the Office of Management and Budget (OMB).

B. Review Under the Regulatory Flexibility Act

The Regulatory Flexibility Act (5 U.S.C. 601 et seq.) requires preparation of an initial regulatory flexibility analysis for any rule that by law must be proposed for public comment, unless the agency certifies that the rule, if promulgated, will not have a significant economic impact on a substantial number of small entities. As required by Executive Order 13272, “Proper Consideration of Small Entities in Agency Rulemaking,” 67 FR 53461 (August 16, 2002), DOE published procedures and policies to ensure that the potential impacts of its draft rules on small entities are properly considered during the rulemaking process (68 FR 7990, February 19, 2003), and has made them available on the Office of General Counsel's Web site: http://www.gc.doe.gov.

The regulatory amendments in this notice of final rulemaking reflecting transfers of functions and address changes relate solely to internal agency organization, management or personnel, and as such, are not subject to the requirement for a general notice of proposed rulemaking under the Administrative Procedure Act (5 U.S.C. 553). Furthermore, it is unnecessary to propose removal of 10 CFR part 852 for public comment because the statutory authority for it has been repealed. Consequently, this rulemaking is exempt from the requirements of the Regulatory Flexibility Act.

C. Review Under the Paperwork Reduction Act

This final rule does not impose a collection of information requirement subject to the Paperwork Reduction Act (44 U.S.C. 3501 et seq.).

D. Review Under the National Environmental Policy Act

DOE has concluded that promulgation of this rule falls into a class of actions that would not individually or cumulatively have a significant impact on the human environment, as determined by DOE's regulations implementing the National Environmental Policy Act of 1969 (42 U.S.C. 4321 et seq.). Specifically, this rule amends existing regulations without changing the environmental effect of the regulations being amended, and, therefore, is covered under the Categorical Exclusion in paragraph A5 of Appendix A to subpart D, 10 CFR part 1021. Accordingly, neither an environmental assessment nor an environmental impact statement is required.

E. Review Under Executive Order 13132

Executive Order 13132, “Federalism,” 64 FR 43255 (August 4, 1999) imposes certain requirements on agencies formulating and implementing policies or regulations that preempt State law or that have federalism implications. Agencies are required to examine the constitutional and statutory authority supporting any action that would limit the policymaking discretion of the States and carefully assess the necessity for such actions. The Executive Order also requires agencies to have an accountable process to ensure meaningful and timely input by State and local officials in the development of regulatory policies that have federalism implications. On March 14, 2000, DOE published a statement of policy describing the intergovernmental consultation process it will follow in the development of such regulations (65 FR 13735). DOE has examined today's rule and has determined that it does not preempt State law and does not have a substantial direct effect on the States, on the relationship between the national government and the States, or on the distribution of power and responsibilities among the various levels of government. No further action is required by Executive Order 13132.

F. Review Under Executive Order 12988

With respect to the review of existing regulations and the promulgation of new regulations, section 3(a) of Executive Order 12988, “Civil Justice Reform” (61 FR 4729, February 7, 1996), imposes on Federal agencies the general duty to adhere to the following requirements: (1) Eliminate drafting errors and ambiguity; (2) write regulations to minimize litigation; and (3) provide a clear legal standard for affected conduct rather than a general standard and promote simplification and burden reduction. Section 3(b) of Executive Order 12988 specifically requires that Executive agencies make every reasonable effort to ensure that the regulation: (1) Clearly specifies the preemptive effect, if any; (2) clearly specifies any effect on existing Federal law or regulation; (3) provides a clear legal standard for affected conduct while promoting simplification and burden reduction; (4) specifies the retroactive effect, if any; (5) adequately defines key terms; and (6) addresses other important issues affecting clarity and general draftsmanship under any guidelines issued by the Attorney General. Section 3(c) of Executive Order 12988 requires Executive agencies to review regulations in light of applicable standards in section 3(a) and section 3(b) to determine whether they are met or it is unreasonable to meet one or more of them. DOE has completed the required review and determined that, to the extent permitted by law, this final rule meets the relevant standards of Executive Order 12988.

G. Review Under the Unfunded Mandates Reform Act of 1995.

Title II of the Unfunded Mandates Reform Act of 1995 (Pub. L. 104-4) requires each Federal agency to assess the effects of a Federal regulatory action on State, local, and tribal governments, and the private sector. DOE has determined that today's regulatory action does not impose a Federal mandate on State, local or tribal governments or on the private sector.

H. Review Under the Treasury and General Government Appropriations Act, 1999

Section 654 of the Treasury and General Government Appropriations Act, 1999 (Pub. L. 105-277) requires Federal agencies to issue a Family Policymaking Assessment for any rule that may affect family well-being. This rule would not have any impact on the autonomy or integrity of the family as an institution. Accordingly, DOE has concluded that it is not necessary to prepare a Family Policymaking Assessment.

I. Review Under the Treasury and General Government Appropriations Act, 2001

The Treasury and General Government Appropriations Act, 2001 (44 U.S.C. 3516, note) provides for agencies to review most disseminations of information to the public under guidelines established by each agency pursuant to general guidelines issued by OMB. OMB's guidelines were published at 67 FR 8452 (February 22, 2002), and DOE's guidelines were published at 67 FR 62446 (October 7, 2002). DOE has reviewed today's notice under the OMB and DOE guidelines and has concluded that it is consistent with applicable policies in those guidelines.

J. Review Under Executive Order 13211

Executive Order 13211, “Actions Concerning Regulations That Significantly Affect Energy Supply, Distribution, or Use,” 66 FR 28355 (May 22, 2001) requires Federal agencies to prepare and submit to the Office of Information and Regulatory Affairs (OIRA), Office of Management and Budget, a Statement of Energy Effects for any proposed significant energy action. A “significant energy action” is defined as any action by an agency that promulgated or is expected to lead to promulgation of a final rule, and that: (1) Is a significant regulatory action under Executive Order 12866, or any successor order; and (2) is likely to have a significant adverse effect on the supply, distribution, or use of energy, or (3) is designated by the Administrator of OIRA as a significant energy action. For any proposed significant energy action, the agency must give a detailed statement of any adverse effects on energy supply, distribution, or use should the proposal be implemented, and of reasonable alternatives to the action and their expected benefits on energy supply, distribution, and use. Today's regulatory action is not a significant energy action. Accordingly, DOE has not prepared a Statement of Energy Effects.

K. Congressional Notification

As required by 5 U.S.C. 801, DOE will submit to Congress a report regarding the issuance of today's final rule prior to the effective date set forth at the outset of this notice. The report will state that it has been determined that the rule is not a “major rule” as defined by 5 U.S.C. 801(2).

List of Subjects

10 CFR Part 602

Grant programs-health, Medical research, Occupational safety and health, Reporting and recordkeeping requirements.

10 CFR Part 710

Administrative practice and procedure, Classified information, Government contracts, Government employees, Nuclear materials.

10 CFR Part 712

Administrative practice and procedure, Alcohol abuse, Classified information, Drug abuse, Government contracts, Government employees, Health, Occupational safety and health, Radiation protection, Security measures.

10 CFR Part 725

Classified information, Nuclear materials, Reporting and recordkeeping requirements.

10 CFR Part 820

Administrative practice and procedure, Government contracts, Penalties, Radiation protection.

10 CFR Part 824

Administrative practice and procedure, Government contracts, Penalties, Radiation protection.

10 CFR Part 835

Occupational safety and health, Radiation protection, Reporting and recordkeeping requirements.

10 CFR Part 850

Beryllium, Hazardous substances, Lung diseases, Occupational safety and health, Reporting and recordkeeping requirements.

10 CFR Part 851

Administrative practice and procedure, Government contracts, Hazardous substances, Reporting and recordkeeping requirements, Workers' compensation.

10 CFR Part 852

Administrative practice and procedure, Government contracts, Hazardous substances, Reporting and recordkeeping requirements, Workers' compensation.

10 CFR Part 861

Federal buildings and facilities, Penalties, Traffic regulations.

10 CFR Part 862

Aircraft, Federal buildings and facilities, Security measures.

10 CFR Part 871

Air transportation, Hazardous materials transportation, Plutonium, Radioactive materials.

10 CFR Part 1004

Freedom of information.

10 CFR Part 1008

Privacy.

10 CFR Part 1016

Classified information, Nuclear materials, Reporting and recordkeeping requirements, Security measures.

10 CFR Part 1017

Administrative practice and procedure, Government contracts, National defense, Nuclear energy, Penalties, Security measures.

10 CFR Part 1021

Environmental impact statements.

10 CFR Part 1044

Administrative practice and procedure, Classified information, Government contracts, Whistleblowing.

10 CFR Part 1045

Classified information.

10 CFR Part 1046

Government contracts, Reporting and recordkeeping requirements, Security measures.

10 CFR Part 1049

Federal buildings and facilities, Government contracts, Law enforcement, Security measures.

Issued in Washington, DC on November 20, 2006.
Glenn Podonsky,
Chief Health, Safety and Security Officer, Office of Health, Safety and Security.
David R. Hill,
General Counsel.

For the reasons set forth in the preamble, 10 CFR parts 602, 710, 712, 725, 820, 824, 835, 850, 851, 852, 861, 862, 871, 1004, 1008, 1016, 1017, 1021, 1044, 1045, 1046, and 1049 are amended as follows:

PART 602—EPIDEMIOLOGY AND OTHER HEALTH STUDIES FINANCIAL ASSISTANCE PROGRAM

1. The authority citation for part 602 continues to read as follows:

Authority: 42 U.S.C. 2051; 42 U.S.C. 5817; 42 U.S.C. 5901-5920; 42 U.S.C. 7254 and 7256; 31 U.S.C. 6301-6308.

§ 602.1 [Amended]

2. Section 602.1 is amended by removing “Office of Environment, Safety and Health” and adding in its place “Office of Health, Safety and Security”.

§ 602.4 [Amended]

3. Section 602.4(a) is amended by removing “Assistant Secretary for Environment, Safety and Health” and adding in its place “DOE Chief Health, Safety and Security Officer”.

§ 602.5 [Amended]

4. Section 602.5(a) is amended by removing “Office of Environment, Safety and Health” and adding in its place “Office of Health, Safety and Security”.

§ 602.7 [Amended]

5. Section 602.7(c) is amended by removing “Office of Epidemiology and Health Surveillance (EH-42), U.S. Department of Energy, Washington, DC 20585, (301) 903-5926)” and adding in its place “Office of Illness and Injury Prevention Programs, HS-13/Germantown Building, U.S. Department of Energy, 1000 Independence Avenue, SW., Washington, DC 20585-1290, 301-903-4501”.

§ 602.9 [Amended]

6-7. Section 602.9 is amended as follows:

A. In paragraph (b), by removing “Office of Environment, Safety and Health” and adding in its place “Office of Health, Safety and Security”; and

B. In paragraph (g), by removing “Office of Environment, Safety and Health” and adding in its place “Office of Health, Safety and Security”, and by removing “Office of Environment, Safety and Health's” and adding in its place “Office of Health, Safety and Security's”.

§ 602.10 [Amended]

8. Section 602.10 is amended in paragraphs (b) and (c) by removing “Office of Epidemiology and Health Surveillance, (EH-42), U.S. Department of Energy, Washington, DC 20585” and adding in its place “Office of Illness and Injury Prevention Programs, HS-13/Germantown Building, U.S. Department of Energy, 1000 Independence Avenue, SW., Washington, DC 20585-1290”.

§ 602.16 [Amended]

9. Section 602.16 is amended by removing “Director of Declassification” and adding in its place “Director, Office of Classification”; by removing “U.S. Department of Energy, Attn: Director of Declassification, NN-50, Washington, DC 20585” and adding in its place “U.S. Department of Energy, Attn: Director of Classification, HS-90, P.O. Box A, Germantown, MD 20875”; by removing “Office of Safeguards and Security” and adding in its place “Office of Security Operations”; and by removing “Division of Safeguards and Security”.

§ 602.17 [Amended]

10. Section 602.17(a)(1) is amended by removing “Office of Environment, Safety and Health” and adding in its place “Office of Health, Safety and Security”.

PART 710—CRITERIA AND PROCEDURES FOR DETERMINING ELIGIBILITY FOR ACCESS TO CLASSIFIED MATTER OR SPECIAL NUCLEAR MATERIAL

11. The authority citation for part 710 is revised to read as follows:

Authority: 42 U.S.C. 2165, 2201, 5815, 7101, et seq., 7383h-1; 50 U.S.C. 2401, et seq.; E.O. 10450, 3 CFR 1949-1953 comp., p. 936, as amended; E.O. 10865, 3 CFR 1959-1963 comp., p. 398, as amended, 3 CFR Chap. IV; E.O. 12958, as amended by E.O.13292, 68 FR 15315, 3 CFR 2004 Comp., p. 196; E.O. 12968, 3 CFR 1995 Comp., p. 391.

§ 710.4 [Amended]

12. Section 710.4(g) is amended by removing “Office of Safeguards and Security,” in the first sentence and by adding in its place “Office of Personnel Security” and by removing “, Office of Safeguards and Security,” in the second sentence.

13-14. Section 710.5 (a) is amended by revising the definition for “Local Director of Security” to read as set forth below, and in the definition for “Operations Office Manager or Manager”, by removing “Operations Office Manager or”, and by removing “Safeguards and Security” and adding in its place “Personnel Security”.

§ 710.5 Definitions.

(a) * * *

Local Director of Security means the individual with primary responsibility for safeguards and security at the Chicago, Idaho, Oak Ridge, Richland, and Savannah River Operations Offices and the Pittsburgh and Schenectady Naval Reactors Offices; the Manager, National Nuclear Security Administration (NNSA) Service Center; for Washington, DC area cases, the Director, Office of Security Operations; and any person designated in writing to serve in one of the aforementioned positions in an acting capacity.

* * * * *

§ 710.6 [Amended]

15-16. Section 710.6 is amended as follows:

A. In paragraph (b), by removing “Office of Safeguards and Security” and adding in its place “Office of Personnel Security”; and

B. In paragraph (c) , in the first sentence by removing “Office of Safeguards and Security” and adding in its place “Office of Personnel Security” and in the second sentence by removing “, Office of Safeguards and Security,”.

§ 710.9 [Amended]

17. Section 710.9 is amended in:

a. Paragraph (c) by removing “Office of Safeguards and Security” and adding in its place “Office of Personnel Security, DOE Headquarters”.

b. Paragraph (d) by removing “Office of Safeguards and Security” and adding in its place “Office of Personnel Security”.

c. Paragraph (e) by removing “Office of Safeguards and Security” and adding in its place “Office of Personnel Security” and by removing “Director, Office of Security Affairs” and adding in its place “Deputy Chief for Operations, Office of Health, Safety and Security”.

§ 710.10 [Amended]

18. Section 710.10 is amended in:

a. Paragraph (d), first sentence, by removing “Office of Safeguards and Security” and adding in its place “Office of Personnel Security, DOE Headquarters”; and in the second sentence by removing “Office of Safeguards and Security”.

b. Paragraph (e) introductory text, by removing “Office of Safeguards and Security” and adding in its place “Office of Personnel Security”.

c. Paragraph (f) by removing “Office of Safeguards and Security” and adding in its place “Office of Personnel Security”; and by removing “Director, Office of Security Affairs” and adding in its place “Deputy Chief for Operations, Office of Health, Safety and Security”.

§ 710.21 [Amended]

19. Section 710.21(a) is amended by removing “Office of Safeguards and Security” and adding in its place “Office of Personnel Security, DOE Headquarters”.

§ 710.22 [Amended]

20. Section 710.22 is amended in:

a. Paragraphs (b) and (c) introductory text by removing “Office of Safeguards and Security” and adding in its place “Office of Personnel Security, DOE Headquarters”.

b. Paragraph (c)(2) by removing “Office of Safeguards and Security” and adding in its place “Office of Personnel Security”.

c. Paragraph (c)(3) by removing “Office of Safeguards and Security” and adding in its place “Office of Personnel Security, DOE Headquarters”.

§ 710.23 [Amended]

21. Section 710.23 is amended by removing “Office of Safeguards and Security” and adding in its place “Office of Personnel Security, DOE Headquarters”.

§ 710.26 [Amended]

22. Section 710.26(j) is amended by removing “Operations Office” in the second sentence.

§ 710.27 [Amended]

23. Section 710.27(d) is amended by removing “Office of Safeguards and Security” and adding in its place “Office of Personnel Security, DOE Headquarters”.

§ 710.28 [Amended]

24. Section 710.28 is amended in:

a. Paragraphs (a) introductory text, (a)(3), (b)(1), (b)(2), (c)(1), and (c)(3) by removing “Office of Safeguards and Security” and adding in its place “Office of Personnel Security, DOE Headquarters”.

b. Paragraph (c)(2) by removing “Director, Office of Security Affairs” and adding in its place “Deputy Chief for Operations, Office of Health, Safety and Security”; and by removing “Office of Safeguards and Security” and adding in its place “Office of Personnel Security, DOE headquarters”.

c. Paragraph (d) by removing “Office of Safeguards and Security” and adding in its place “Office of Personnel Security”.

§ 710.29 [Amended]

25. Section 710.29 is amended in:

a. Paragraph (a) by removing “Director, Office of Security Affairs” and adding in its place “Deputy Chief for Operations, Office of Health, Safety and Security” and by removing “Office of Safeguards and Security” and adding in its place “Office of Personnel Security”.

b. Paragraphs (b) and (d) by removing “Director, Office of Security Affairs” and adding in its place “Deputy Chief for Operations, Office of Health, Safety and Security”.

c. Paragraph (c) by removing “Office of Safeguards and Security” and adding in its place “Office of Personnel Security” and by removing “Director, Office of Security Affairs” and adding in its place “Deputy Chief for Operations, Office of Health, Safety and Security”.

d. Paragraph (f) by removing “Director, Office of Security Affairs” and adding in its place “Deputy Chief for Operations, Office of Health, Safety and Security” the first time it appears and by removing “the Director, Office of Security Affairs” and adding in its place “he” the second time it appears.

e. Paragraph (g) by removing “Director, Office of Security Affairs” and adding in its place “Deputy Chief for Operations, Office of Health, Safety and Security” and by removing “Office of Safeguards and Security” and adding in its place “Office of Personnel Security”.

f. Paragraph (h) by removing “Director, Office of Security Affairs” and adding in its place “Deputy Chief for Operations, Office of Health, Safety and Security”; by removing “Director may” and adding in its place “Deputy Chief for Operations may”; and by removing “Director, Office of Security Affairs, shall” and adding in its place “Deputy Chief for Operations, shall”.

g. Paragraph (i) by removing “Director, Office of Security Affairs” and adding in its place “Deputy Chief for Operations, Office of Health, Safety and Security”; by removing “Director may” and adding in its place “Deputy Chief for Operations may”; and by removing “Director, Office of Security Affairs, shall” and adding in its place “Deputy Chief for Operations shall”.

§ 710.30 [Amended]

26. Section 710.30 is amended in:

a. Paragraphs (a) and (b) introductory text by removing “Office of Safeguards and Security” and adding in its place “Office of Personnel Security, DOE Headquarters” .

b. Paragraph (b)(2) by removing “Director, Office of Security Affairs” and adding in its place “Deputy Chief for Operations, Office of Health, Safety and Security” in the first sentence and by removing “Director, Office of Security Affairs” and adding in its place “Deputy Chief for Operations” in the second sentence.

§ 710.31 [Amended]

27. Section 710.31 is amended in:

a. Paragraph (a) by removing “Director, Office of Security Affairs” and adding in its place “Deputy Chief for Operations, Office of Health, Safety and Security” in both places that it appears.

b. Paragraph (b) by removing “Director, Office of Security Affairs” and adding in its place “Deputy Chief for Operations, Office of Health, Safety and Security”.

c. Paragraph (d) by removing “Director, Office of Security Affairs” and adding in its place “Deputy Chief for Operations, Office of Health, Safety and Security”.

§ 710.32 [Amended]

28. Section 710.32 is amended in:

a. Paragraph (c) by removing “Director, Office of Security Affairs” and adding in its place “Deputy Chief for Operations, Office of Health, Safety and Security” in the first sentence and by removing “Director, Office of Security Affairs” and adding in its place “Deputy Chief for Operations” in the second sentence.

b. Paragraphs (d) introductory text and (d)(2) by removing “Office of Safeguards and Security” and adding in its place “Office of Personnel Security, DOE Headquarters”.

§ 710.36 [Amended]

29. Section 710.36 is amended by removing “Office of Safeguards and Security” and adding in its place “Office of Personnel Security, DOE headquarters”; by removing “Director, Office of Security Affairs” and adding in its place “Deputy Chief for Operations, Office of Health, Safety and Security”; and by removing “the Deputy Director, Office of Security Affairs” and adding in its place “his designee”.

PART 712—HUMAN RELIABILITY PROGRAM

30. The authority citation for part 712 continues to read as follows:

Authority: 42 U.S.C. 2165; 42 U.S.C. 2201; 42 U.S.C. 5814-5815; 42 U.S.C. 7101 et seq.; 50 U.S.C. 2401 et seq.; E.O. 10450, 3 CFR 1949-1953 Comp., p. 936, as amended; E.O. 10865, 3 CFR 1959-1963 Comp., p. 398, as amended; 3 CFR Chap. IV.

§ 712.3 [Amended]

31. Section 712.3 is amended by:

a. Removing “Deputy Assistant Secretary for Health” and adding in its place “Director, Office of Health and Safety” and moving the definition to follow the definition of “Diagnostic and Statistical Manual of Mental Disorders”.

b. By removing “Deputy Assistant Secretary for Health” in the definitions of “Designated Physician”and “Designated Psychologist”and adding in its place “Director, Office of Health and Safety”.

c. By removing “Manager of the Rocky Flats Office;” in the definition of “Manager”; and by removing “Director, Office of Security” in the definition of “Manager” and adding in its place “Deputy Chief for Operations, Office of Health, Safety and Security”.

§ 712.10 [Amended]

32. Section 712.10(b) is amended by removing “Director, Office of Security” and adding in its place “Chief Health, Safety and Security Officer”.

§ 712.12 [Amended]

33. Section 712.12 is amended in:

a. Paragraphs (c)(1) and (d) by removing “Director, Office of Security” and adding in its place “Chief Health, Safety and Security Officer”.

b. Paragraph (e) introductory text by removing “Security Policy Staff, within the Office of Security” and adding in its place “Office of Policy”.

c. Paragraph (f)(1) by removing “Security Policy Staff” and adding in its place “Office of Policy”.

§ 712.14 [Amended]

34. Section 712.14 paragraphs (f)(1) and (f)(3) are amended by removing “Deputy Assistant Secretary for Health” and adding in its place “Director, Office of Health and Safety”.

§ 712.22 [Amended]

35. Section 712.22 is amended by removing “Director, Office of Security”in the first and third sentences and adding in both places “Chief Health, Safety and Security Officer”.

§ 712.23 [Amended]

36. Section 712.23 is amended by removing “Director, Office of Security's” and adding in its place “Chief Health, Safety and Security Officer's”.

§ 712.34 [Amended]

37. Section 712.34, paragraphs (a), (b) introductory text, (c) and (d) are amended by removing “Deputy Assistant Secretary for Health” and adding in its place “Director, Office of Health and Safety”.

38. Section 712.35 is amended by revising the section heading to read as set forth below, and the introductory text is amended by removing “Deputy Assistant Secretary for Health” and add in its place “Director, Office of Health and Safety”.

§ 712.35 Director, Office of Health and Safety.

* * * * *

§ 712.36 [Amended]

39. Section 712.36, paragraphs (d)(1) and (d)(3) are amended by removing “Deputy Assistant Secretary for Health” and adding in its place “Director, Office of Health and Safety”.

PART 725—PERMITS FOR ACCESS TO RESTRICTED DATA

40. The authority citation for part 725 is revised to read as follows:

Authority: Sec. 161 of the Atomic Energy Act of 1954, as amended, 68 Stat. 943, 42 U.S.C. 2201.

§ 725.1 [Amended]

41. Section 725.1 is amended by removing “Administrator” and adding in its place “Chief Health, Safety and Security Officer”.

§ 725.3 [Amended]

42. Section 725.3(d) is amended by removing “Administrator” and adding in its place “Chief Health, Safety and Security Officer” and by removing “Administrator of the Department of Energy” and adding in its place “Chief Health, Safety and Security Officer”.

§ 725.4 [Amended]

43. Section 725.4 is amended by removing “Administrator” and adding in its place “Chief Health, Safety and Security Officer”.

44. Section 725.5 is revised to read as follows:

§ 725.5 Communications.

All communications concerning this part should be addressed to the Chief Health, Safety and Security Officer, HS-1/Forrestal Building, U.S. Department of Energy, 1000 Independence Ave, SW., Washington, DC 20585.

§ 725.7 [Amended]

45. Section 725.7 is amended by removing “Administrator” and adding in its place “Chief Health, Safety and Security Officer”.

46. Section 725.11(a) is revised to read as follows:

§ 725.11 Applications.

(a) Any person desiring access to Restricted Data pursuant to this part should submit an application (Form 378), in triplicate, for an access permit to the Chief Health, Safety and Security Officer, HS-1/Forrestal Building, U.S. Department of Energy, 1000 Independence Ave, SW., Washington, DC 20585.

* * * * *

§ 725.13 [Amended]

47. Section 725.13 is amended by removing “Administrator” in both places and adding in both places “Chief Health, Safety and Security Officer”.

§ 725.21 [Amended]

48. Section 725.21 is amended in:

a. Paragraph (a) by removing “Administrator” and adding in its place “Chief Health, Safety and Security Officer”.

b. Paragraph (b) by removing “795 of this chapter” and adding in its place “1016 of this title”.

§ 725.23 [Amended]

49. Section 725.23 is amended in:

a. Paragraph (b) by removing “Administrator” and adding in its place “Chief Health, Safety and Security Officer”.

b. Paragraph (c)(1) by removing “795 and 810 of this chapter” and adding in its place “810 and 1016 of this title”.

c. Paragraph (c)(4) by removing “Administrator of Energy Research and Development” and adding in its place “Chief Health, Safety and Security Officer”.

§ 725.24 [Amended]

50. Section 725.24 is amended in:

a. The introductory text by removing “cognizant Operations Office” and adding in its place “Chief Health, Safety and Security Officer will designate a DOE or National Nuclear Security Administration office which”.

b. Paragraph (b) by removing “795 of this chapter” and adding in its place “1016 of this title”.

§ 725.25 [Amended]

51. Section 725.25(b) is amended by removing “Administrator” and adding in its place “Chief Health, Safety and Security Officer”.

52. Section 725.28 is amended by revising the section heading to read as set forth below, and by removing “Administrator” and adding in its place “Chief Health, Safety and Security Officer”.

§ 725.28 Action on application to renew or amend.

* * * * *

§ 725.29 [Amended]

53. Section 725.29 is amended by removing “Administrator” and adding in its place “Chief Health, Safety and Security Officer”.

§ 725.30 [Amended]

54. Section 725.30 is amended by removing “Administrator” and adding in its place “Chief Health, Safety and Security Officer”.

Appendix B to Part 725 [Removed]

55. Appendix B to Part 725 is removed.

PART 820—PROCEDURAL RULES FOR DOE NUCLEAR ACTIVITIES

56. The authority citation for part 820 continues to read as follows:

Authority: 42 U.S.C. 2201, 2282(a), 7191; 28 U.S.C. 2461 note.

§ 820.1 [Amended]

57. Section 820.1(c) is amended by removing “Assistance Secretary” and adding in its place “Administrator”.

§ 820.2 [Amended]

58-59. Section 820.2 is amended in the definition of “Director” by removing “Assistant Secretary” and adding in its place “Administrator,” and by revising the definition of “Secretarial Officer” to read as set forth below:

§ 820.2 Definitions.

* * * * *

Secretarial Officer means an individual who is appointed to a position in the Department by the President of the United States with the advice and consent of the Senate or the head of a departmental element who is primarily responsible for the conduct of an activity under the Act. With regard to activities and facilities covered under E.O. 12344, 42 U.S.C. 7158 note, pertaining to Naval nuclear propulsion, Secretarial Officer means the Deputy Administrator for Naval Reactors.

* * * * *

Appendix A [Amended]

60. Appendix A to Part 820 is amended in:

a. Section IX.1.a. by adding “and Environment” after “Office of Nuclear Safety”;

b. Section IX.9., paragraph e.(1), by removing “Office of Environment, Safety and Health” and adding in its place “Office of Health, Safety and Security” and by adding “and Environment” after “Office of Nuclear Safety”.

c. Section XIII.b. by removing “Office of Investigation and Enforcement” and adding in its place “Office of Enforcement”.

PART 824—PROCEDURAL RULES FOR THE ASSESSMENT OF CIVIL PENALTIES FOR CLASSIFIED INFORMATION SECURITY VIOLATIONS

61. The authority citation for part 824 continues to read as follows:

Authority: 42 U.S.C. 2201, 2282b, 7101 et seq.; 50 U.S.C. 2401 et seq.

Appendix A to Part 824 [Amended]

62. Appendix A to Part 824 is amended in:

a. Section IV.b. by removing “10 CFR part 824.6” and adding in its place “§ 824.6”.

b. Section VIII.9., paragraph e.(1) by removing “and Performance Assurance”.

PART 835—OCCUPATIONAL RADIATION PROTECTION

63. The authority citation for part 835 continues to read as follows:

Authority: 42 U.S.C. 2201; 7191.

§ 835.1 [Amended]

64. Section 835.1(b)(2) is amended by removing “Director, Naval Nuclear Propulsion Program” and by adding in its place “Deputy Administrator for Naval Reactors”.

65. Section 835.2(a) is amended by adding the definition of “Secretarial Officer” to read as follows:

§ 835.2 Definitions.

* * * * *

Secretarial Officer means an individual who is appointed to a position in the Department of Energy by the President of the United States with the advice and consent of the Senate or the head of a departmental element who is primarily responsible for the conduct of an activity under the Act. With regard to activities and facilities covered under E.O. 12344, 42 U.S.C. 7158 note, pertaining to Naval nuclear propulsion, Secretarial Officer means the Deputy Administrator for Naval Reactors.

* * * * *

PART 850—CHRONIC BERYLLIUM DISEASE PREVENTION PROGRAM

66. The authority citation for part 850 continues to read as follows:

Authority: 42 U.S.C. 2201(i)(3), (p); 42 U.S.C. 2282c; 29 U.S.C. 668; 42 U.S.C. 7101 et seq.; 50 U.S.C. 2401 et seq., E.O. 12196, 3 CFR 1981 comp., at 145 as amended.

§ 850.10 [Amended]

67. Section 850.10(b)(2) is amended by removing “Assistant Secretary for Environment, Safety and Health” and adding in its place “Chief Health, Safety and Security Officer”.

§ 850.39 [Amended]

68-69. Section 850.39 is amended in paragraph (a) by removing “Assistant Secretary for Environment, Safety and Health” and adding in its place “Chief Health, Safety and Security Officer”, and in paragraph (h) , by removing “DOE Office of Epidemiologic Studies with the Office of Environment, Safety and Health” and adding in its place “Office of Illness and Injury Prevention Programs, Office of Health, Safety and Security”.

PART 851—WORKER SAFETY AND HEALTH PROGRAM

70. The authority citation for part 851 continues to read as follows:

Authority: 42 U.S.C. 2201(i)(3), (p); 42 U.S.C. 2282c; 42 U.S.C. 5801 et seq.; 42 U.S.C. 7101 et seq.; 50 U.S.C. 2401 et seq.

§ 851.8 [Amended]

71-72. Section 851.8 is amended in paragraph (b) by removing “Office of Environment, Safety and Health, Office of Health (EH-5)” and adding in its place “Office of Health, Safety and Security”, and in paragraph (c) , by removing “Office of Environment, Safety and Health, Office of Price-Anderson Enforcement (EH-6)” and adding in its place “Office of Health, Safety and Security, Office of Enforcement, HS-40,”.

§ 851.11 [Amended]

73. Section 851.11(b)(2) is amended by removing “Assistant Secretary for Environment, Safety and Health” and adding in its place “Chief Health, Safety and Security Officer”.

§ 851.27 [Amended]

74. Section 851.27(a)(2)(ii) is amended by removing “Office of Environment, Safety and Health” and adding in its place “Office of Health, Safety and Security”.

§ 851.30 [Amended]

75. Section 851.30(a) is amended by removing “Assistant Secretary for Environment, Safety and Health” and adding in its place “Chief Health, Safety and Security Officer”.

§ 851.31 [Amended]

76-78. In § 851.31, paragraphs (a)(1), (a)(2), and (a)(3) are amended by removing “Assistant Secretary for Environment, Safety and Health” and adding in its place “Chief Health, Safety and Security Officer”, paragraph (b) introductory text is amended by removing “Assistant Secretary for Environment, Safety and Health to be incomplete, the Assistant Secretary” and adding in its place “Chief Health, Safety and Security Officer to be incomplete, the Chief Health, Safety and Security Officer”, and paragraph (c)(5) is amended by removing “Assistant Secretary for Environment, Safety and Health” and adding in its place “Chief Health, Safety and Security Officer”.

§ 851.32 [Amended]

79-80. Section 851.32 is amended in:

a. Paragraph (a)(1) by removing “Assistant Secretary for Environment, Safety and Health recommends approval of a variance application, the Assistant Secretary” and adding in its place “Chief Health, Safety and Security Officer recommends approval of a variance application, the Chief Health, Safety and Security Officer”.

b. Paragraph (a)(2) by removing “Assistant Secretary for Environment, Safety and Health” and adding in its place “Chief Health, Safety and Security Officer” and by removing “Office of Price-Anderson Enforcement” and adding in its place “Office of Enforcement”.

c. Paragraph (a)(4), by removing “Assistant Secretary for Environment, Safety and Health” and adding in its place “Chief Health, Safety and Security Officer”.

d. Paragraph (c)(1), by removing “Assistant Secretary for Environment, Safety and Health recommends denial of a variance application, the Assistant Secretary” and adding in its place “Chief Health, Safety and Security Officer recommends denial of a variance application, the Chief Health, Safety and Security Officer”.

e. Paragraphs (c)(2)(i) and (c)(2)(ii), by removing “Assistant Secretary” and adding in its place “Chief Health, Safety and Security Officer”.

§ 851.34 [Amended]

81. In § 851.34, paragraphs (a) and (c) are amended by removing “Assistant Secretary for Environment, Safety and Health” and adding in its place “Chief Health, Safety and Security Officer”.

PART 852—GUIDELINES FOR PHYSICIAN PANEL DETERMINATIONS ON WORKER REQUESTS FOR ASSISTANCE IN FILING FOR STATE WORKERS' COMPENSATION BENEFITS

82-83. Part 852 is removed.

PART 861—CONTROL OF TRAFFIC AT NEVADA TEST SITE

84. The authority citation for part 861 is revised to read as follows:

Authority: 42 U.S.C. 2201.

§ 861.3 [Amended]

85. Section 861.3(c) is amended by removing “Operations” and adding in its place “Site”.

PART 862—RESTRICTIONS ON AIRCRAFT LANDING AND AIR DELIVERY AT DEPARTMENT OF ENERGY NUCLEAR SITES

86. The authority citation for part 862 continues to read as follows:

Authority: 42 U.S.C. 2201(b), 2201(i) and 2278(a).

§ 862.3 [Amended]

87. Section 862.3(f) is amended by removing “Manager of a DOE Operations Office” and adding in its place “manager of a DOE field office” and by removing “Director of the Office of Safeguards and Security” and adding in its place “Chief Health, Safety and Security Officer”.

PART 871—AIR TRANSPORTATION OF PLUTONIUM

88. The authority citation for part 871 continues to read as follows:

Authority: Pub. L. 94-187, 88 Stat. 1077, 1078 (42 U.S.C. 2391 et seq.); Energy Reorganization Act, Pub. L. 93-438, 88 Stat. 1233 (42 U.S.C. 5801 et seq.); secs. 2, 3, 91, 123, and 161 of the Atomic Energy Act of 1954, as amended.

89. Section 871.1, paragraph (b) introductory text is revised, and the undesignated concluding paragraph of the section is amended by removing “They” at the beginning of each sentence and adding in its place “The Deputy Administrator for Defense Programs”.

The revision reads as follows:

§ 871.1 National security exemption.

* * * * *

(b) The Deputy Administrator for Defense Programs may authorize air shipments falling within paragraph (a)(1) of this section, on a case-by-case basis: Provided, That the Deputy Administrator for Defense Programs determines that such shipment is required to be made by aircraft either because:

* * * * *

§ 871.2 [Amended]

90. Section 871.2 is amended by removing “Managers of DOE's Albuquerque, San Francisco, Oak Ridge, Savannah River, Nevada, Chicago, Idaho and Richland Operations Offices” and adding in its place “Deputy Administrator for Defense Programs” and by removing “they determine” and adding in its place “the Deputy Administrator determines”.

§ 871.3 [Amended]

91. Section 871.3 is amended by removing “authorizing officials” and by adding in its place “Deputy Administrator for Defense Programs” and by removing “Assistant Administrator for National Security” and adding in its place “Administrator of the National Nuclear Security Administration”.

§ 871.4 [Amended]

92. Section 871.4 is amended by removing “Assistant Administrator for National Security” and adding in its place “Administrator of the National Nuclear Security Administration”.

PART 1004—FREEDOM OF INFORMATION

93. The authority citation for part 1004 continues to read as follows:

Authority: 5 U.S.C. 552.

94. Section 1004.2(h) and (p) are revised to read as follows:

§ 1004.2 Definitions.

* * * * *

(h) Freedom of Information Officer means the person designated to administer the Freedom of Information Act at the following DOE offices:

(1) Bonneville Power Administration, P.O. Box 3621-KDP-7, Portland, OR 97232.

(2) Carlsbad Field Office, P.O. Box 3090, Carlsbad, NM 88221.

(3) Chicago Office, 9800 S. Cass Avenue, Argonne, IL 60439.

(4) Environmental Management Consolidated Business Center, 250 East 5th Street, Suite 500, Cincinnati, OH 45202.

(5) Golden Field Office, 1617 Cole Boulevard, Golden, CO 80401.

(6) Headquarters, Department of Energy, Washington, DC 20585.

(7) Idaho Operations Office, 1955 Fremont Avenue, MS 1203, Idaho Falls, ID 83401.

(8) National Nuclear Security Administration Service Center, P.O. Box 5400, Albuquerque, NM 87185-5400.

(9) National Nuclear Security Administration Nevada Site Office, P.O. Box 98518, Las Vegas, NV 89193-3521.

(10) National Energy Technology Laboratory, 3610 Collins Ferry Road, Morgantown, WV 26507-0800.

(11) Oak Ridge Office, P.O. Box 2001, Oak Ridge, TN 37831.

(12) Office of Scientific and Technical Information, P.O. Box 2001, Oak Ridge, TN 37831.

(13) Pacific Northwest Site Office, P.O. Box 350, Mail Stop K8-50, Richland, WA 99352.

(14) Pittsburgh Naval Reactors, P.O. Box 109, West Mifflin, PA 15122-0109.

(15) Richland Operations Office, P.O. Box 550, Mail Stop A7-75, Richland, WA 99352.

(16) Savannah River Operations Office, P.O. Box A, Aiken, SC 29801.

(17) Schenectady Naval Reactors, P.O. Box 1069, Schenectady, NY 12301.

(18) Southeastern Power Administration, 1166 Athens Tech Road, Elberton, GA 30635-6711.

(19) Southwestern Power Administration, One West Third, S1200, Tulsa, OK 74103.

(20) Strategic Petroleum Reserve Project Management Office, 900 Commerce Road East-MS FE-455, New Orleans, LA 70123.

(21) Western Area Power Administration, 12155 W. Alameda Parkway, P.O. Box 281213, Lakewood, CO 80228-8213.

* * * * *

(p) Secretarial Officer means the Under Secretary; Under Secretary for Science; Administrator, Energy Information Administration; Administrator, National Nuclear Security Administration; Assistant Secretary for Congressional and Intergovernmental Affairs; Assistant Secretary for Energy Efficiency and Renewable Energy; Assistant Secretary for Environmental Management; Assistant Secretary for Fossil Energy; Assistant Secretary for Policy and International Affairs; Assistant Secretary for Nuclear Energy; Chief Financial Officer; Chief Health, Safety and Security Officer; Chief Human Capital Officer; Chief Information Officer; Director, Office of Civilian Radioactive Waste Management; Director, Office of Economic Impact and Diversity; Director, Office of Electricity Delivery and Energy Reliability; Director, Office of Hearings and Appeals; Director, Office of Legacy Management; Director, Office of Management; Director, Office of Public Affairs; Director, Office of Science; General Counsel; Inspector General; and Senior Intelligence Officer.

* * * * *

PART 1008—RECORDS MAINTAINED ON INDIVIDUALS (PRIVACY ACT)

95. The authority citation for part 1008 continues to read as follows:

Authority: 42 U.S.C. 7101 et seq.; 50 U.S.C. 2401 et seq.; 5 U.S.C. 552a.

96. Section 1008.2(c) is revised to read as follows:

§ 1008.2 Definitions.

* * * * *

(c) DOE locations means each of the following DOE components:

(1) Bonneville Power Administration, P.O. Box 3621-KDP-7, Portland, OR 97232.

(2) Carlsbad Field Office, P.O. Box 3090, Carlsbad, NM 88221.

(3) Chicago Office, 9800 S. Cass Avenue, Argonne, IL 60439.

(4) Environmental Management Consolidated Business Center, 250 East 5th Street, Suite 500, Cincinnati, OH 45202.

(5) Golden Field Office, 1617 Cole Boulevard, Golden, CO 80401.

(6) Headquarters, Department of Energy, Washington, DC 20585.

(7) Idaho Operations Office, 1955 Fremont Avenue, MS 1203, Idaho Falls, ID 83401.

(8) National Nuclear Security Administration Service Center, P.O. Box 5400, Albuquerque, NM 87185-5400.

(9) National Nuclear Security Administration Nevada Site Office, P.O. Box 98518, Las Vegas, NV 89193-3521.

(10) National Energy Technology Laboratory, 3610 Collins Ferry Road, Morgantown, WV 26507-0800.

(11) Oak Ridge Office, P.O. Box 2001, Oak Ridge, TN 37831.

(12) Office of Scientific and Technical Information, 175 S. Oak Ridge Turnpike, P.O. Box 62, Oak Ridge, TN 37830.

(13) Pacific Northwest Site Office, P.O. Box 350, Mail Stop K8-50, Richland, WA 99352.

(14) Pittsburgh Naval Reactors, P.O. Box 109, West Mifflin, PA 15122-0109.

(15) Richland Operations Office, P.O. Box 550, Mail Stop A7-75, Richland, WA 99352.

(16) Savannah River Operations Office, P.O. Box A, Aiken, SC 29801.

(17) Schenectady Naval Reactors, P.O. Box 1069, Schenectady, NY 12301.

(18) Southeastern Power Administration, 1166 Athens Tech Road, Elberton, GA 30635-6711.

(19) Southwestern Power Administration, One West Third, S1200, Tulsa, OK 74103.

(20) Strategic Petroleum Reserve Project Management Office, 900 Commerce Road East-MS FE-455, New Orleans, LA 70123.

(21) Western Area Power Administration, 12155 W. Alameda Parkway, P.O. Box 281213, Lakewood, CO 80228-8213.

* * * * *

PART 1016—SAFEGUARDING OF RESTRICTED DATA

97. The authority citation for part 1016 is revised to read as follows:

Authority: Sec. 161i of the Atomic Energy Act of 1954, 68 Stat. 948 (42 U.S.C. 2201).

§ 1016.3 [Amended]

98. Section 1016.3(o) is amended by removing “Executive Order 12356 of April 2, 1982, ‘National Security Information' ” and adding in its place “Executive Order 12958, as amended”, “Classified National Security Information” and Executive Order 13292 “Further Amendment to Executive Order 12958, as Amended, Classified National Security Information””.

99. Section 1016.4 is revised to read as follows:

§ 1016.4 Communications.

Communications concerning rulemaking, i.e., petition to change part 1016, should be addressed to the Chief Health, Safety and Security Officer, HS-1/Forrestal Building, Office of Health, Safety and Security, U.S. Department of Energy, 1000 Independence Avenue, SW., Washington, DC 20585. All other communications concerning the regulations in this part should be addressed to the cognizant DOE or National Nuclear Security Administration (NNSA) office.

§ 1016.31 [Amended]

100. Section 1016.31(b) is amended by removing “DOE Operations Offices administering the permit as set forth in appendix B of part 725” and adding in its place “the cognizant DOE or NNSA office”.

§ 1016.32 [Amended]

101. Section 1016.32(a) is amended by removing “Operations Office administering the permit” and adding in its place “cognizant DOE or NNSA office” and by removing “U.S. DOE, Washington, DC 20545” and adding in its place “HS-90/Germantown Building, Office of Health, Safety and Security, U.S. Department of Energy, 1000 Independence Avenue, SW., Washington, DC 20585-1290”.

§ 1016.36 [Amended]

102. Section 1016.36 is amended by removing “DOE Operations Offices administering the permit; or U.S. DOE, Washington, DC 20545, Attention: Office of Classification” and adding in its place “cognizant DOE or NNSA office or Office of Classification, HS-90/Germantown Building, U.S. Department of Energy, 1000 Independence Avenue, SW., Washington, DC 20585-1290”.

§ 1016.43 [Amended]

103. Section 1016.43 is amended by removing “E.O. 12356” and adding in its place “Executive Order 12958, as amended”.

PART 1017—IDENTIFICATION AND PROTECTION OF UNCLASSIFIED CONTROLLED NUCLEAR INFORMATION

104. The authority citation for part 1017 continues to read as follows:

Authority: 42 U.S.C. 2168; 28 U.S.C. 2461 note.

§ 1017.3 [Amended]

105. Section 1017.3(u)(2)(iii) is amended by removing “Assistant Secretary for Defense Programs” and adding in its place “Chief Health, Safety and Security Officer”.

§ 1017.7 [Amended]

106. Section 1017.7(a)(2) is amended by removing “Manager of a DOE Operations Office” and adding in its place “Manager of a DOE or NNSA field element”; and in paragraph (c) introductory text by removing “Assistant Secretary for Defense Programs” and adding in its place “Director, Office of Classification”.

§ 1017.8 [Amended]

107. Section 1017.8(c) is amended by removing “Assistant Secretary for Defense Programs” and adding in its place “Chief Health, Safety and Security Officer”.

§ 1017.11 [Amended]

108. Section 1017.11 is amended in the introductory text by removing “Assistant Secretary for Defense Programs” and adding in its place “Director, Office of Classification” and by removing “Assistant Secretary for Defense Programs (refer to § 1017.16(b)(1) for the address)” and adding in its place “Director, Office of Classification, HS-90/Germantown Building, U.S. Department of Energy; 1000 Independence Avenue, SW., Washington, DC 20585-1290”.

§ 1017.16 [Amended]

109. Section 1017.16 is amended in:

a. Paragraph (a)(5) by removing “Assistant Secretary for Defense Programs” and adding in its place “Chief Health, Safety and Security Officer.”

b. Paragraph (b)(1) by removing “Assistant Secretary for Defense Programs, U.S. Department of Energy, Washington, DC 20585” and adding in its place “Chief Health, Safety and Security Officer, HS-1/Forrestal Building, U.S. Department of Energy, 1000 Independence Avenue, SW., Washington, DC 20585”.

c. Paragraph (b)(3) introductory text and (c)(2) by removing “Assistant Secretary for Defense Programs” and adding in its place “Chief Health, Safety and Security Officer.”

d. Paragraph (b)(4) by removing “Assistant Secretary for Defense Programs” and adding in its place “Chief Health, Safety and Security Officer” in both sentences.

§ 1017.17 [Amended]

110. Section 1017.17(e)(2)(iv) is amended by removing “Assistant Secretary for Defense Programs” and adding in its place “Chief Health, Safety and Security Officer”.

§ 1017.18 [Amended]

111. Section 1017.18 is amended in:

a. Paragraphs (a) introductory text, (a)(1)(i) introductory text, (a)(1)(i)(C), (a)(1)(i)(D) both sentences, (a)(1)(i)(E), (a)(1)(ii), and (a)(1)(iii) by removing “Assistant Secretary for Defense Programs” and adding in its place “Chief Health, Safety and Security Officer”.

b. Paragraph (a)(2) introductory text by removing “Assistant Secretary for Defense Programs” and adding in its place “Chief Health, Safety and Security Officer” in both the second and third sentences.

c. Paragraphs (a)(2)(v) and (a)(3) by removing “Assistant Secretary for Defense Programs” and adding in its place “Chief Health, Safety and Security Officer”.

PART 1021—NATIONAL ENVIRONMENTAL POLICY ACT IMPLEMENTING PROCEDURES

112. The authority citation for part 1021 continues to read as follows:

Authority: 42 U.S.C. 7101 et seq.; 42 U.S.C. 4321 et seq.; 50 U.S.C. 2401 et seq.

113. Section 1021.105 is revised to read as follows:

§ 1021.105 Oversight of Agency NEPA activities.

The General Counsel, or his/her designee, is responsible for overall review of DOE NEPA compliance. Further information on DOE's NEPA process and the status of individual NEPA reviews may be obtained upon request from the Office of NEPA Policy and Compliance, GC-20, Office of the General Counsel, U.S. Department of Energy, 1000 Independence Avenue SW., Washington, DC 20585-0103.

PART 1044—SECURITY REQUIREMENTS FOR PROTECTED DISCLOSURES UNDER SECTION 3164 OF THE NATIONAL DEFENSE AUTHORIZATION ACT FOR FISCAL YEAR 2000

114. The authority citation for part 1044 continues to read as follows:

Authority: 42 U.S.C. 7101 et seq., 7239, and 50 U.S.C. 2401 et seq.

§ 1044.07 [Amended]

115. Section 1044.07 is amended by removing “Office of Safeguards and Security” and adding in its place “Office of Personnel Security”.

§ 1044.08 [Amended]

116. Section 1044.08 is amended by removing “Office of Nuclear and National Security Information” and adding in its place “Office of Classification”.

§ 1044.09 [Amended]

117. Section 1044.09 is amended by removing “Office of Nuclear and National Security Information” and adding in its place “Office of Classification”.

§ 1044.10 [Amended]

118. Section 1044.10 is amended by removing “Office of Nuclear and National Security Information” and adding in its place “Office of Classification”.

§ 1044.11 [Amended]

119. Section 1044.11, paragraph (c) is amended by removing “Office of Nuclear and National Security Information” and adding in its place “Office of Classification”; and paragraph (h) is amended by removing “Office of Safeguards and Security” and adding in its place “Office of Health, Safety and Security”.

§ 1044.12 [Amended]

120. Section 1044.12 is amended by removing “U.S. Department of Energy, 1000 Independence Avenue, SW., Washington, DC 20585-1017” and adding in its place “HG-1/L'Enfant Plaza Building, U.S. Department of Energy, 1000 Independence Avenue SW., Washington, DC 20585-1615” and by removing “(202) 426-1415” and adding in its place “(202) 287-1415”.

PART 1045—NUCLEAR CLASSIFICATION AND DECLASSIFICATION

121. The authority citation for part 1045 is revised to read as follows:

Authority: 42 U.S.C. 2011; E.O. 12958, 60 FR 19825, 3 CFR, 1995 Comp., p. 333; E.O. 13292, 68 FR 15315, 3 CFR 2004 Comp., p. 196.

§ 1045.3 [Amended]

122. In § 1045.3:

a. The definition “Director of Declassification” is amended in the first sentence by removing “Declassification” and adding in its place “Classification”; by removing “Office of Declassification” and adding in its place “Office of Classification”; and in the second sentence by removing “Director of Declassification” and adding in its place “Director of Classification” and by removing “Director of Security Affairs” and adding in its place “Chief Health, Safety and Security Officer”.

b. Remove the definition of “Director of Security Affairs”.

c. Add the definition of “Chief Health, Safety and Security Officer” in alphabetical order to read as set forth below:

§ 1045.3 Definitions.

* * * * *

Chief Health, Safety and Security officer means the Department of Energy Chief Health, Safety and Security Officer, or any person to whom the Chief's duties are delegated.

* * * * *

§ 1045.4 [Amended]

123. Section 1045.4 is amended in:

a. Paragraph (a) introductory text and (f)(4) by removing “DOE Director of Declassification” and adding in its place “Director of Classification”.

b. Paragraph (b) introductory text by removing “DOE Director of Security Affairs” and adding in its place “Chief Health, Safety and Security Officer”.

§ 1045.7 [Amended]

124. Section 1045.7(a) is amended by removing “Openness Coordinator, Department of Energy, Office of Declassification, 19901 Germantown Road, Germantown, Maryland 20874-1290” and adding in its place “Director, Office of Classification, HS-90/Germantown Building, U.S. Department of Energy, 1000 Independence Avenue SW., Washington, DC 20585-1290”.

§ 1045.8 [Amended]

125. Section 1045.8, paragraphs (a) and (b) are amended by removing “DOE Director of Declassification” and adding in its place “Director of Classification”.

§ 1045.12 [Amended]

126. Section 1045.12 is amended in:

a. Paragraph (a) by removing “DOE Director of Declassification” and adding in its place “Director of Classification”.

b. Paragraphs (b), (c), and (d), by removing “DOE Director of Security Affairs” and adding in its place “Chief Health, Safety and Security Officer”.

§ 1045.14 [Amended]

127. Section 1045.14 is amended in:

a. Paragraph (a)(1) by removing “DOE Director of Declassification” and adding in its place “Director of Classification” in both places it appears.

b. Paragraph (a)(2) by removing “DOE Director of Declassification” and adding in its place “Director of Classification”.

c. Paragraphs (b), (c), and (d) by removing “DOE Director of Security Affairs” and adding in its place “Chief Health, Safety and Security Officer”.

§ 1045.15 [Amended]

128. Section 1045.15, paragraphs (a), (d) introductory text, and (e) introductory text, are amended by removing “DOE Directors of Declassification and Security Affairs” and adding in its place “Director of Classification and the Chief Health, Safety and Security Officer”.

§ 1045.16 [Amended]

129. Section 1045.16 is amended in:

a. Paragraphs (a) and (b), by removing “DOE Director of Declassification” and adding in its place “Director of Classification” and by removing “DOE Director of Security Affairs” and adding in its place “Chief Health, Safety and Security Officer”.

b. Paragraphs (c) and (d) introductory text, are amended by removing “Directors of Declassification and Security Affairs” and adding in its place “Director of Classification and the Chief Health, Safety and Security Officer”.

§ 1045.17 [Amended]

130. Section 1045.17, paragraphs (a) introductory text, (a)(1), (a)(2), (a)(3), and (b), are amended by removing “DOE Director of Declassification” and adding in its place “Director of Classification”.

§ 1045.18 [Amended]

131. Section 1045.18, paragraphs (a) and (b), are amended by removing “DOE Director of Declassification” and adding in its place “Director of Classification”.

§ 1045.19 [Amended]

132. Section 1045.19 is amended in:

a. Paragraph (a) by removing “DOE Directors of Declassification and Security Affairs” and adding in its place “Director of Classification and the Chief Health, Safety and Security Officer” in the first, second, and fourth sentences and by removing “DOE Director of Declassification” and adding in its place “Director of Classification”.

b. Paragraph (b) by removing “DOE Director of Declassification” and in the first and second sentences adding in its place “Director of Classification” and by removing “Department of Energy, Director of Declassification, 19901 Germantown Road, Germantown, Maryland 20874-1290” and adding in its place “Director Office of Classification, HS-90/Germantown Building, U.S. Department of Energy, 1000 Independence Avenue SW., Washington, DC 20585-1290”.

§ 1045.20 [Amended]

133. Section 1045.20 is amended by removing “DOE Director of Security Affairs” and adding in its place “Chief Health, Safety and Security Officer” and by removing “Department of Energy, Director of Security Affairs” and adding in its place “Chief Health, Safety and Security Officer, HS-1/Forrestal Building, U.S. Department of Energy”.

§ 1045.22 [Amended]

134. Section 1045.22(c) is amended by removing “DOE Director of Security Affairs” and adding in its place “Chief Health, Safety and Security Officer”.

§ 1045.33 [Amended]

135. Section 1045.33, paragraphs (a) and (b), are amended by removing “DOE Director of Declassification” and adding in its place “Director of Classification”.

§ 1045.35 [Amended]

136. Section 1045.35, paragraphs (b) and (c), are amended by removing “DOE Director of Declassification” and adding in its place “Director of Classification”.

§ 1045.36 [Amended]

137. Section 1045.36(b) is amended by removing “DOE Director of Declassification” and adding in its place “Director of Classification”.

§ 1045.37 [Amended]

138. Section 1045.37 is amended in:

a. Paragraph (a) by removing “DOE Directors of Declassification and Security Affairs” and adding in its place “Director of Classification and the Chief Health, Safety and Security Officer”.

b. Paragraph (c) by removing “DOE Director of Declassification” and adding in its place “Director of Classification”.

§ 1045.39 [Amended]

139. Section 1045.39(b)(3) is amended by removing “DOE Director of Declassification” and adding “Director of Classification” in both places that it occurs in the first sentence and by removing “DOE Director of Security Affairs” and adding in its place “Chief Health, Safety and Security Officer”.

§ 1045.42 [Amended]

140. Section 1045.42 is amended in:

a. Paragraphs (b)(5)(i), (b)(5)(ii), (c)(1), and (c)(2) by removing “DOE Director of Declassification” and adding in its place “Director of Classification”.

b. Paragraphs (d)(1) and (2), by removing “DOE Director of Security Affairs” and adding in its place “Chief Health, Safety and Security Officer”.

§ 1045.43 [Amended]

141. Section 1045.43 is amended in:

a. Paragraph (b) by removing “DOE Director of Declassification” and adding in its place “Director of Classification”.

b. Paragraph (c) by removing “Director of Declassification, Department of Energy, 19901 Germantown Road, Germantown, Maryland 20874-1290” and adding in its place “Director, Office of Classification, HS-90/Germantown Building, U.S. Department of Energy, 1000 Independence Avenue SW., Washington, DC 20585-1290”.

§ 1045.45 [Amended]

142. Section 1045.45(b) is amended by removing “DOE Director of Declassification” and adding in its place “Director of Classification”.

§ 1045.52 [Amended]

143. Section 1045.52(d) is amended by removing “Department of Energy, Director of Declassification, 19901 Germantown Road, Germantown, Maryland 20874-1290” and adding in its place “Director, Office of Classification, HS-90/Germantown Building, U.S. Department of Energy, 1000 Independence Avenue SW., Washington, DC 20585-1290”.

§ 1045.53 [Amended]

144. Section 1045.53 is amended in:

a. Paragraph (b) by removing “DOE Director of Declassification” and adding in its place “Director of Classification”.

b. Paragraph (c) by removing “DOE Director of Security Affairs” and adding in its place “Chief Health, Safety and Security Officer, HS-1/Forrestal Building”.

c. Paragraphs (d) and (e) by removing “DOE Director of Security Affairs” and adding in their place “Chief Health, Safety and Security Officer”.

d. Paragraph (f) by removing “DOE Director of Security Affairs”' and adding in its place “Chief Health, Safety and Security Officer's”.

PART 1046—PHYSICAL PROTECTION OF SECURITY INTERESTS

145. The authority citation for part 1046 continues to read as follows:

Authority: Sec. 2201, Pub. L. 83-703, 68 Stat. 919 (42 U.S.C. 2201 et seq.); sec. 7151, Pub. L. 95-91, 91 Stat. 565 (42 U.S.C. 7101 et seq.).

§ 1046.3 [Amended]

146. Section 1046.3 is amended in the definition of “Designated physician” by removing “Medical Director, Office of Operational and Environmental Safety, Headquarters” and adding in its place “Director, Office of Health and Safety” and by removing “Medical” in the second sentence.

Appendix A to Subpart B of Part 1046 [Amended]

147. Appendix A is amended in:

a. Section B.(9) by removing “Director of Safeguards and Security, Headquarters,” and adding in its place “Chief Health, Safety and Security Officer”.

b. Section G.(1)(e) by removing “Director of Safeguards and Security, DOE Headquarters,” and adding in its place “Chief Health, Safety and Security Officer”.

c. Section J.(5) by removing “Director of Safeguards and Security, DOE Headquarters” and adding in its place “Chief Health, Safety and Security Officer”.

Appendix B to Subpart B of Part 1046 [Amended]

148. Appendix B is amended in:

a. Section B.(1) by removing “Central Training Academy (CTA)” and adding in its place “National Training Center,” and by removing “Director, Office of Safeguards and Security” and adding in its place “Chief Health, Safety and Security Officer”.

b. Section B.(9)(b) is amended by removing “DOE Operations Office” and adding in its place “DOE field office”.

c. Section B.(9)(g) by removing “Office of Safeguards and Security (SA-10)” and adding in its place “Chief Health, Safety and Security Officer”.

d. Section B.(9)(i) by removing “Central Training Academy” and adding in its place “National Training Center”.

PART 1049—LIMITED ARREST AUTHORITY AND USE OF FORCE BY PROTECTIVE FORCE OFFICERS OF THE STRATEGIC PETROLEUM RESERVE

149. The authority citation for part 1049 continues to read as follows:

Authority: 42 U.S.C. 7101 et seq.

§ 1049.8 [Amended]

150. Section 1049.8(a) is amended by removing “Department of Energy Office of Safeguards and Security” and adding in its place “Chief Health, Safety and Security Officer”.

[FR Doc. E6-20104 Filed 11-27-06; 8:45 am]

BILLING CODE 6450-01-P